DEPARTMENT OF HOMELAND SECURITY

National Communications System

[Docket No. DHS-2005-0034]

Notice of Meeting of the National Security Telecommunications Advisory Committee

AGENCY: National Communications System (NCS).

ACTION: Notice of closed meeting.

SUMMARY: The President's National Security Telecommunications Advisory Committee (NSTAC) will meet in closed session on Wednesday, May 11, 2005, from 9:30 until 11:30 a.m., and from 12:55 until 3 p.m. The meeting will take place at the United States Chamber of Commerce, 1615 H Street, NW., Washington, DC. The NSTAC advises the President of the United States on issues and problems related to implementing national security and emergency preparedness (NS/EP) telecommunications policy.

FOR FURTHER INFORMATION CONTACT: Ms. Kiesha Gebreyes, Chief, Industry Operations Branch at (703) 235-5525, e-mail: Kiesha.Gebreyes@dhs.gov, or write the Manager, National Communications System, Department of Homeland Security, IAIP/NCS/N5, Mail Stop #8510, Washington, DC 20528-mail stop #8510.

SUPPLEMENTARY INFORMATION: Notice of this meeting is given under the Federal Advisory Committee Act (FACA), as amended (5 U.S.C. App. 2). The NSTAC will meet for purposes of: (1) Receiving briefings from senior government policy officials, and discussing with them, issues related to the Federal government's NS/EP telecommunications planning, architecture, and vulnerability mitigation activities; (2) reviewing the findings and conclusions of the Committee's Task Forces relative to issues such as the operation and evolution of existing emergency response plans and structures, potential NS/EP telecommunications vulnerabilities associated with the migration to next generation networks, critical telecommunications sector interdependencies, and the risks presented by the availability of critical telecommunications infrastructure information on an open source basis; (3) deliberating and voting upon proposed recommendations to address these issues; and (4) considering further issues and lines of inquiry to be undertaken in light of the findings.

A full and candid discussion concerning these subjects will likely implicate sensitive information concerning infrastructure vulnerabilities (some relating to government infrastructures) the public disclosure of which could frustrate significantly the Federal government's efforts to mitigate such vulnerabilities and safeguard such critical facilities from attack. It is also likely to entail discussion of privileged and confidential private sector security measures and planning activities that would not be made available to the government in a public forum.

Therefore, pursuant to section 10(d) of the Federal Advisory Committee Act, as amended, 5 U.S.C. App. 2 § 10(d), the Under Secretary for Information Analysis and Infrastructure Protection has determined that the subjects identified above will concern matters that, if prematurely disclosed, would significantly frustrate implementation of proposed agency actions, and would also likely disclose trade secrets and commercial or financial information obtained from a person and privileged or confidential. Accordingly, pursuant to 5 U.S.C. 552b(c)(4) and (9)(B), the meeting will be closed to the public.

Public Comments: You may submit comments, identified by DHS-2005-0034, by one of the following methods:

• EPA Federal Partner EDOCKET Web Site: http://www.epa.gov/feddocket. Follow instructions for submitting comments on the web site.

• Federal eRulemaking Portal: http://www.regulations.gov. Follow the instructions for submitting comments.

• E-mail: NSTAC@dhs.gov. When submitting comments electronically, please include DHS-2005-0034 in the subject line of the message.

• Mail: Office of the Manager, National Communications System, Department of Homeland Security, Washington, DC 20529. To ensure proper handling, please reference DHS-2005-0034 on your correspondence. This mailing address may also be used for paper, disk, or CD-ROM submissions.

All comments received will be posted without change to http://www.epa.gov/feddocket, including any personal information provided. For access to the docket, or to read background documents or comments received, go to http://www.epa.gov/feddocket. You may also access the Federal eRulemaking Portal at http://www.regulations.gov.

Basis for Closure: In accordance with Section 10(d) of the Federal Advisory Committee Act, as amended, 5 U.S.C. App. 2 § 10(d), the Under Secretary for Information Analysis and Infrastructure Protection has determined that this National Security Telecommunications Advisory Committee meeting is excluded from the Open Meetings requirement pursuant to the authority contained in 5 U.S.C. § 552b(c)(4) and (9)(b).

Dated: April 21, 2005.
Peter M. Fonash,
Acting Deputy Manager, National Communications System.

[FR Doc. 05-8289 Filed 4-25-05; 8:45 am]

BILLING CODE 4410-10-P